DEPARTMENT OF AGRICULTURE

Forest Service

Flathead, Lolo, and Bitterroot National Forests, Northern Region

AGENCY: Forest Service, USDA.

ACTION: Notice of intent to revise the Land and Resource Management Plans (Forest Plans) for the Flathead, Lolo and Bitterroot National Forests.

SUMMARY: This notice announces the beginning of the efforts to revise the Land and Resource Management Plans (Forest Plans) for the Flathead, Lolo and Bitterroot National Forests. The Forest Plan revision will be done jointly with the Flathead, Lolo and Bitterroot National Forests. The beginning efforts are to establish a planning team and evaluate information needs. Public involvement is critical and will be requested throughout this effort. The forests are developing a communication strategy to document how the public and government entities may participate in the revision of the Forest Plan.

ADDRESSES: Send written comments concerning this notice and requests to be added to the Forest Plan revision mailing list to Cathy Barbouletos, Forest Supervisor, Flathead National Forest, 1935 Third Avenue East, Kalispeel, MT 59901.

FOR FURTHER INFORMATION CONTACT: Terry Chute, Planning Staff, Flathead National Forest, phone (406) 758-5243; Barb Beckes, Planning Program Officer, Lolo National Forest, phone (406) 329-3809; or Sue Heald, Planning Staff, Bitterroot National Forest, phone (406) 363-7142.

SUPPLEMENTARY INFORMATION: The Forest Plans for the Flathead and Lolo National Forests were completed in 1986, while the Forest Plan for the Bitterroot National Forest was completed in 1987. These plans will remain in effect and continue to be implemented until they are revised. In the past, a “Notice of Intent to Prepare an Environmental Impact Statement” was issued at the beginning of the forest planning process. This Notice addresses initiation of revision where the focus will be on collaboration with the public, organizing the revision team and information evaluation. Once the scope of the revision is better understood the Forests will issue another Notice to prepare the Environmental Impact Statement.

This Notice initiates revision under the 1982 planning regualtions (36 CFR 219). The Forest Service is also preparing new draft planning regulations expected to be issued in the spring of 2002. When these new regulations are adopted, the Forests will consider whether to operate under the new or the 1982 regulations. An additional Notice will be issued if the Forests decide to operate under the new regulations.

Dated: May 3, 2002.
Kathleen A. McAllister,
Deputy Regional Forester, Forest Service-Northern Region.

[FR Doc. 02-11708 Filed 5-9-02; 8:45 am]

BILLING CODE 3410-11-M